DEPARTMENT OF HEALTH AND HUMAN SERVICES

National Institutes of Health

Proposed Collection; 30-Day Comment Request; Federally Funded Research Development Center Contract Administration System (FCAS) Vendor Portal National Cancer Institute (NCI)

AGENCY: National Institutes of Health, HHS.

ACTION: Notice.

SUMMARY: In compliance with the requirement of the Paperwork Reduction Act of 1995 to provide an opportunity for public comment on proposed data collection projects, the National Institutes of Health, National Cancer Institute (NCI) will publish periodic summaries of proposed projects to be submitted to the Office of Management and Budget (OMB) for review and approval.

DATES: Comments regarding this information collection are best assured of having their full effect if received within 60 days of the date of this publication.

ADDRESSES: Written comments and recommendations for the proposed information collection should be sent within 30 days of publication of this notice to https://www.reginfo.gov/public/do/PRAMain. Find this particular information collection by selecting “Currently under 30-day Review—Open for Public Comments” or using the search function.

FOR FURTHER INFORMATION CONTACT: To obtain a copy of the data collection plans and instruments, submit comments in writing, or request more information on the proposed project, contact Scott Keasey, 428 Miller Drive, Suite 59 9742, Rockville, MD 20880, or call non-toll-free number 301-846-1115 or Email your request, including your address to: scott.keasey@nih.gov. Formal requests for additional plans and instruments must be requested in writing.

SUPPLEMENTARY INFORMATION: This proposed information collection was previously published in the Federal Register on June 4, 2024, 89 FR 47970 and allowed 60 days for public comment. No public comments were received. The purpose of this notice is to allow an additional 30 days for public comment. The National Cancer Institute (NCI), National Institutes of Health, may not conduct or sponsor, and the respondent is not required to respond to, an information collection that has been extended, revised, or implemented on or after October 1, 1995, unless it displays a currently valid OMB control number.

In compliance with section 3507(a)(1)(D) of the Paperwork Reduction Act of 1995, the National Institutes of Health (NIH) has submitted to the Office of Management and Budget (OMB) a request for review and approval of the information collection listed below.

Proposed Collection Title: Federally Funded Research Development Center Contract Administration System (FCAS) Vendor Portal National Cancer Institute (NCI), 0925-0773, Expiration Date 10/31/2024, REVISION, National Cancer Institute (NCI), National Institutes of Health (NIH).

Need and Use of Information Collection: This is a request for OMB to approve the revised information collection for the Federally Funded Research Development Center Contract Administration System (FCAS) Vendor Portal. The National Cancer Institute (NCI) Office of Acquisitions (OA), located within the Office of the Director (OD) in the Office of Management (OM) at the National Cancer Institute (NCI), awards and administers contracts and simplifies acquisitions in support of the Institute's mission to prevent, diagnose and treat cancer. During the acquisition process, the OA ensures that customer service is paramount and communications are open and continuous. Currently, requests and correspondence are sent to and received from vendors through email, except the FFRDC Contractor, who submits through the FCAS Vendor Portal, which is in production. To streamline processes, increase transparency, and gain efficiencies, the OA uses the FCAS vendor portal to replace processes handled through emailing FCAS Vendor Portal Users to individual OA recipients. The FCAS Vendor Portal will serve as a one-stop shop for the transmission of requests, reports, deliverables, and other correspondence due to numerous research and development in support of R&D contracts as well as those contract vehicles awarded using various Federal Acquisition Procedures, including but not limited to FAR Part 8, Required Sources of Supplies and Services, FAR Part 13, Simplified Acquisition Procedures, and FAR Part 12, Acquisition of Commercial Items. These reports and deliverables cover a wide variety of topics in the areas of cancer research, including prevention, detection, diagnosis, and control.

OMB approval is requested for 3 years. There are no costs to respondents other than their time. The total estimated annualized burden hours are 77.

Estimated Annualized Burden Hours
Form name | Type of respondent | Number of respondents | Number of responses per respondent | Average time per response (in hours) | Total annual burden hours
Survey | Individuals | 1 | 1 | 6/60 | 0
Registration | Corporations | 1 | 1 | 6/60 | 0
Data Field Information | Individuals | 72 | 63 | 1/60 | 76
Add/Edit new Vendor | Corporations | 6 | 1 | 6/60 | 1
Totals |  | 80 | 4,544 |  | 77

Dated: September 24, 2024.
Diane Kreinbrink,
Project Clearance Liaison, National Cancer Institute, National Institutes of Health.

[FR Doc. 2024-22188 Filed 9-26-24; 8:45 am]

BILLING CODE 4140-01-P